FEDERAL HOUSING FINANCE BOARD

Sunshine Act Meeting, Announcing an Open Meeting of the Board

Time and Date: 10 a.m., Thursday, November 30, 2000.

Place: Board Room, Second Floor, Federal Housing Finance Board, 1777 F Street, N.W., Washington, DC 20006.

Status: The entire meeting will be open to the public.

Matters to be Considered During Portions Open to the Public: • Proposed Rule: “Enforcement Powers: Implementation of Gramm-Leach-Bliley Act Amendments to the Federal Home Loan Bank Act”.

• Office of Finance Issues—(1)Waiver of Finance Board Regulation; and (2) Finance Board Resolution—Authority to Reopen Consolidated Obligation's issued by the Finance Board.

• Report on FHLBanks' Implementation of New Collateral Authority.

• Report on Acquired Member Assets/Mortgage Partnership Finance Products and Volumes.

Contact Person for more Information: Elaine L. Baker, Secretary to the Board, (202) 408-2837.

James L. Bothwell,
Managing Director.

[FR Doc. 00-29926 Filed 11-17-00; 3:34 pm]

BILLING CODE 6725-01-P